ENVIRONMENTAL PROTECTION AGENCY

[FRL-6701-2]

National Drinking Water Advisory Council; Contaminant Candidate List and 6-Year Review of Existing Regulations Working Group; Notice of Open Meeting

AGENCY: Environmental Protection Agency.

ACTION: Notice.

Under Section 10(a)(2) of Public Law 92-423, “The Federal Advisory Committee Act,” notice is hereby given that a meeting of the Contaminant Candidate List (CCL) Regulatory Determination and 6-Year Review of Existing Regulations Working Group of the National Drinking Water Advisory Council established under the Safe Drinking Water Act, as amended (42 U.S.C. S300f et seq.), will be held June 5-6, 2000, from 8:30 a.m.-5:00 p.m. ET (approximately), at RESOLVE, 1255 23rd Street, NW, Suite 275, Washington, DC 20037. The meeting is open to the public to observe and statements will be taken from the public as time allows. Seating is limited.

This is the first of three scheduled meetings to address the 6-Year Review of Existing Regulations. The purpose of the meeting is to begin the process of developing a protocol for selecting existing National Primary Drinking Water Regulation (NWPDRs) for possible revision. As a starting point, the Working Group will review a strawman protocol developed by U.S. EPA. Final recommendations will be forwarded to the full NDWAC for further consideration.

For more information, contact April McLaughlin, Designated Federal Officer, Contaminant Candidate List and Regulatory Determination and 6-Year Review of Existing Regulations Working Group, U.S. EPA (4607), Office of Ground Water and Drinking Water, 401 M Street SW, Washington, DC 20460. The telephone number is 202-260-5524, fax 202-401-6135, and e-mail mclaughlin.april@epa.gov.

Dated: May 8, 2000.
Janet Pawlukiewicz,
Acting Designated Federal Officer, National Drinking Water Advisory Council.

[FR Doc. 00-12521 Filed 5-17-00; 8:45 am]

BILLING CODE 6560-50-P